DEPARTMENT OF HOUSING AND URBAN DEVELOPMENT

[Docket No. FR-5995-N-4]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following address(es): AIR FORCE: Mr. Robert E. Moriarty, P.E., AFCEC/CI, 2261 Hughes Avenue, Ste. 155, JBSA Lackland TX 78236-9853, (315) 225-7384; GSA: Mr. Flavio Peres, General Services Administration, Office of Real Property Utilization and Disposal, 1800 F Street NW., Room 7040 Washington, DC 20405, (202) 501-0084; NAVY: Ms. Nikki Hunt, Department of the Navy, Asset Management Division, Naval Facilities Engineering Command, Washington Navy Yard, 1330 Patterson Ave., SW., Suite 1000, Washington, DC 20374, (202) 685-9426; VETERAN AFFAIRS: Ms. Jessica L. Kaplan, Director, Real Property Service, Department of Veterans Affairs, 810 Vermont Avenue NW., (003C1E), Washington, DC 20420, (202) 273-8234; (These are not toll-free numbers).

Dated: January 18, 2017.
Brian P. Fitzmaurice,
Director, Division of Community Assistance, Office of Special Needs Assistance Programs.

TITLE V, FEDERAL SURPLUS PROPERTY PROGRAM FEDERAL REGISTER REPORT FOR 01/27/2017

Suitable/Available Properties

Building

California

Mission Street Parking

1064 & 1068 Mission Street

San Francisco CA 94103

Landholding Agency: GSA

Property Number: 54201710008

Status: Excess

GSA Number: 9-G-CA-1704-AB

Directions: Small office building 6,310 sq. ft.; property contains 1.2 acres of paved land

Comments: Good to fair conditions; lead-based paint and non-friable asbestos present; contact GSA for more details/conditions pertaining to property.

Colorado

3 Buildings

Denver VA Medical Center Campus

Denver CO 80220

Landholding Agency: VA

Property Number: 97201710001

Status: Underutilized

Directions: Building 7 (10,800 sq. ft.); Building 23 (7,000 sq. ft.); Building C (4,500 sq. ft.)

Comments: 14± −65± yrs. old; sq. ft.; listed above; housekeeping/staff; research; controlled access 7:30 a.m.-4:00 p.m.; bldg. 7 has potential asbestos was abated but doc is vague; contact VA for more info.

Texas

Former Comstock Border Patrol

Facility Parcel I

Langtry & Hwy 90 W (32144 Hwy 90 W

Comstock TX 78837

Landholding Agency: GSA

Property Number: 54201710006

Status: Surplus

GSA Number: 7-X-TX-0653-AB

Directions: (RPUID): TX0405, TX0404 Disposal Agency: GSA; Land Holding Agency: Department of Homeland Security

Comments: 55± Yrs. old; old admin. bldg.; 3,320 sq. ft.; old processing bldg.; 3,485 sq. ft.; vacant 24 mos.; sits on .39 fee acres; contact GSA for more information.

Land

Montana

Canyon Ferry Reservoir Townsend

Parcel III

99 Delger Road

Townsend MT 59644

Landholding Agency: GSA

Property Number: 54201710003

Status: Surplus

GSA Number: 7-D-MT-06377-AA

Directions: Disposal Agency: GSA; Landholding Agency: Interior

Comments: 59.01 acres; contact GSA for more information.

Canyon Ferry Reservoir

Townsend Parcel I

Southwest Corner of Centerville Rd. & Mill Rd

Townsend MT 59644

Landholding Agency: GSA

Property Number: 54201710004

Status: Surplus

GSA Number: 7-D-MT-06377-AA

Directions: Disposal Agency: GSA; Landholding Agency: Interior

Comments: 10.54 acres; contact GSA for more information.

Canyon Ferry Reservoir Townsend

Parcel II

96 Canton Lane

Townsend MT 59644

Landholding Agency: GSA

Property Number: 54201710005

Status: Surplus

GSA Number: 7-D-MT-0637-AA

Directions: Disposal Agency: GSA; Landholding Agency: Interior

Comments: 89.1 acres; contact GSA for more information.

Virginia

IAD Centreville Outer Marker

14201 Braddock Road

Centreville VA 20120

Landholding Agency: GSA

Property Number: 54201710007

Status: Excess

GSA Number: VA-1166-AA

Comments: .26 acres/11,325.60 sq. ft.; contact GSA for more information.

Unsuitable Properties

Building

Hawaii

2 Buildings

Marine Corps Base Hawaii, Kaneohe Bay

Kaneohe Bay HI 96863

Landholding Agency: Navy

Property Number: 77201710002

Status: Excess

Directions:

Building 3026 & 3027

Comments: Public access denied and no alternative method to gain access without compromising national security.

Reasons: Secured Area

Pacific Missile Range Facility

Barking Sands

South of Tarter Dr. & E of Nohili Road

Kauai HI

Landholding Agency: Navy

Property Number: 77201710004

Status: Unutilized

Comments: Public access denied and no alternative method to gain access without compromising national security.

Reasons: Secured Area

Minnesota

Facility 206- Base Exchange

4970 Airport Road

FMKM Duluth Air National Guard Base

Duluth MN 55811

Landholding Agency: Air Force

Property Number: 18201710001

Status: Excess

Comments: Property within 2,000 ft. of flammable or explosive materials that are located on Federal facility.

Reasons: Within 2000 ft. of flammable or explosive material

Texas

Geothermal Well & Electrical

Power Generation Site

Naval Air Station

Corpus Christi TX

Landholding Agency: Navy

Property Number: 77201710003

Status: Excess

Comments: Public access denied and no alternative method to gain access without compromising national security; property located within floodway which has not been correct of contained.

Reasons: Secured Area; Floodway

[FR Doc. 2017-01545 Filed 1-26-17; 8:45 am]

BILLING CODE 4210-67-P